DEPARTMENT OF TRANSPORTATION

Federal Aviation Administration

14 CFR Part 39

[Docket No. 2004-CE-10-AD; Amendment 39-13776; AD 2004-17-04]

RIN 2120-AA64

Airworthiness Directives; Grob-Werke Gmbh & Co KG Models G102 CLUB ASTIR III, G102 CLUB ASTIR IIIb, and G102 STANDARD ASTIR III Sailplanes

AGENCY: Federal Aviation Administration (FAA), DOT.

ACTION: Final rule.

SUMMARY: The FAA supersedes Airworthiness Directive (AD) 2001-26-25, which applies to all Grob-Werke Gmbh & Co KG (Grob) Models G102 CLUB ASTIR III, G102 CLUB ASTIR IIIb, and G102 STANDARD ASTIR III sailplanes. AD 2001-26-25 currently requires you to apply a red mark and install a placard on the airspeed indicator to restrict the Vne airspeed. This AD requires you to install additional mass balance in the elevator and ailerons and determine resultant empty weight and empty weight center of gravity; incorporate a revision in the sailplane maintenance manual; and remove the red mark and the red placard on the airspeed indicator (both required by AD 2001-26-25). This AD is the result of mandatory continuing airworthiness information (MCAI) issued by the airworthiness authority for Germany. We are issuing this AD to prevent elevator flutter, which could cause structural damage. Such damage could result in loss of control of the sailplane.

DATES: This AD becomes effective on October 7, 2004.

As of October 7, 2004, the Director of the Federal Register approved the incorporation by reference of certain publications listed in the regulation.

ADDRESSES: You may get the service information identified in this AD from GROB Luft-und Raumfahrt, Lettenbachstrasse 9, D-86874 Tussenhausen-Mattsies, Federal Republic of Germany; telephone: 49 8268 998139; facsimile: 49 8268 998200.

You may view the AD docket at FAA, Central Region, Office of the Regional Counsel, Attention: Rules Docket No. 2004-CE-10-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

Has FAA taken any action to this point? The Luftfahrt-Bundesamt (LBA), which is the airworthiness authority for Germany, reported that during flight operation of Model G102 CLUB ASTIR IIIb sailplanes, two events of elevator flutter occurred in the upper flight speed range due to unknown causes. This resulted in us issuing AD 2001-26-25, Amendment 39-12591 (67 FR 809, January 8, 2002).

AD 2001-26-25 currently requires the following on Grob Models G102 CLUB ASTIR III, G102 CLUB ASTIR IIIb, and G102 STANDARD ASTIR III sailplanes:

—Application of a red mark on the airspeed indicator at 165 km/h, 89.1 kts, or 102.5 mph (according to the airspeed indicator calibration); and

—Installation of a red placard to the airspeed indicator restricting the Vne airspeed to 165 km/h, 89.1 kts, or 102.5 mph (according to the airspeed indicator calibration).

What has happened since AD 2001-26-25 to initiate this action? The LBA recently notified FAA of the need to change AD 2001-26-25. As a result of extensive tests and calculations, the LBA has determined that operation within the original margins can be approved if additional mass balance is installed in the elevators and ailerons.

Additionally, the LBA has determined that the operation with restricted Vne airspeed to 165 km/h, 89.1 kts, or 102.5 mph (according to the airspeed indicator calibration) is permitted to continue until additional mass balance is installed in the elevator and ailerons.

What is the potential impact if FAA took no action? Elevator flutter could cause structural damage. Such damage could result in loss of control of the sailplane.

Has FAA taken any action to this point? We issued a proposal to amend part 39 of the Federal Aviation Regulations (14 CFR part 39) to include an AD that would apply to all Grob-Werke Gmbh & Co KG (Grob) Models G102 CLUB ASTIR III, G102 CLUB ASTIR IIIb, and G102 STANDARD ASTIR III sailplanes. This proposal was published in the Federal Register as a notice of proposed rulemaking (NPRM) on June 3, 2004 (69 FR 31327). The NPRM proposed to supersede AD 2001-26-25 with a new AD that would require you to:

—Install additional mass balance in the elevator and ailerons and determine empty weight and empty weight center of gravity after installing any additional mass balance;

—Incorporate Revision 2, dated December 4, 2002, in the sailplane maintenance manual or other appropriate document; and

—Remove the red mark on the airspeed indicator (required by AD 2001-26-25) at 165 km/h, 89.1 kts, or 102.5 mph.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 50 sailplanes in the U.S. registry.

What is the cost impact of this AD on owners/operators of the affected sailplanes? We estimate the following costs to accomplish the modification to install additional mass balance in the elevator and ailerons and determine the empty weight and empty weight center of gravity; incorporate a revision in the applicable sailplane maintenance manual; and remove the red mark on the airspeed indicator and the red placard to the airspeed indicator:

Labor cost | Parts cost | Total cost per sailplane | Total cost on U.S. operators
10 workhours × $65 per hour = $650 | Not Applicable | $650 | $32,500

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-CE-10-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-26-25, Amendment 39-12591 (67 FR 809, January 8, 2002), and by adding a new AD to read as follows:

2004-17-04 Grob-Werke Gmbh & Co KG: Amendment 39-13776; Docket No. 2004-CE-10-AD.

When Does This AD Become Effective?

(a) This AD becomes effective on October 7, 2004.

What Other ADs Are Affected by This Action?

(b) This AD supersedes AD 2001-26-25.

What Sailplanes Are Affected by This AD?

(c) This AD affects the following Models G102 CLUB ASTIR III, G102 CLUB ASTIR IIIb, and G102 STANDARD ASTIR III sailplanes, all serial numbers, that are certificated in any category.

What Is the Unsafe Condition Presented in This AD?

(d) This AD is the result of mandatory continuing airworthiness information (MCAI) issued by the airworthiness authority for Germany. The actions specified in this AD are intended to prevent elevator flutter, which could cause structural damage. Such damage could result in loss of control of the sailplane.

What Must I Do To Address This Problem?

(e) To address this problem, you must do the following, unless already done:

Actions | Compliance | Procedures
(1) Install additional mass balance in the elevator and ailerons and determine resultant empty weight and empty weight center of gravity | Within the next 25 hours time-in-service (TIS) after October 7, 2004 (the effective date of this AD) | Follow GROB Luft-und Raumfahrt Service Bulletin No. MSB306-36/3, dated December 4, 2002; GROB Luft-und Raumfahrt Service Installation Instructions No. MSB306-36/3, dated April 18, 2002; and Instructions for Continued Airworthiness GROB G 102, Revision 1, dated April 18, 2002. The applicable sailplane maintenance manual also addresses this issue.
(2) Incorporate Instructions for Continued Airworthiness GROB G 102, Revision 1, dated April 18, 2002, in the sailplane maintenance manual, or other appropriate document | Before further flight after installing the additional mass balance and determining the empty weight and empty weight center of gravity required by paragraph (e)(1) of this AD | Not applicable.
(3) Remove the red mark on the airspeed indicator (formerly required by AD 2001-26-25) at 165 kilometers/hour (km/h), 89.1 knots (kts), or 102.5 miles per hour (mph) | Before further flight after installing the additional mass balance and determining the empty weight and empty weight center of gravity required by paragraph (e)(1) of this AD | Follow GROB Luft-und Raumfahrt Service Bulletin No. MSB306-36/3, dated December 4, 2002, and GROG Luft-und Raumfahrt Service Installation Instruction No. MSB306-36/3, dated April 18, 2002. The applicable sailplane maintenance manual also addresses this issue.
(4) Remove the red placard to the airspeed indicator (formerly required by AD 2001-26-25) restricting the Vne airspeed to 165 km/h, 89.1 kts, or 102.5 mph (according to the airspeed indicator calibration) | Before further flight after installing the additional mass balance and determining the empty weight and empty weight center of gravity required by paragraph (e)(1) of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Does This AD Incorporate Any Material by Reference?

(g) You must do the actions required by this AD following the instructions in GROB Luft-und Raumfahrt Service Bulletin No. MSB306-36/3, dated December 4, 2002; GROB Luft-und Raumfahrt Service Installation Instructions No. MSB306-36/3, dated April 18, 2002; and Instructions for Continued Airworthiness GROB G 102, Revision 1, dated April 18, 2002. The Director of the Federal Register approved the incorporation by reference of this service bulletin in accordance with 5 U.S.C. 552(a) and 1 CFR part 51. You may get a copy from GROB Luft-und Raumfahrt, Lettenbachstrasse 9, D-86874 Tussenhausen-Mattsies, Federal Republic of Germany; telephone: 49 8268 998139; facsimile: 49 8268 998200. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) German AD Numbers 2001-317/4, dated January 9, 2003, and 2001-317/3, dated November 14, 2002, also address the subject of this AD.

Issued in Kansas City, Missouri, on August 13, 2004.
John R. Colomy,
Acting Manager, Small Airplane Directorate, Aircraft Certification Service.

[FR Doc. 04-18997 Filed 8-20-04; 8:45 am]

BILLING CODE 4910-13-P